DEPARTMENT OF COMMERCE

International Trade Administration

UChicago Argonne, LLC, et al.; Notice of Decision on Applications for Duty-Free Entry of Scientific Instruments

This is a decision pursuant to Section 6(c) of the Educational, Scientific, and Cultural Materials Importation Act of 1966 (Pub. L. 89-651, as amended by Pub. L. 106-36; 80 Stat. 897; 15 CFR part 301). Related records can be viewed between 8:30 a.m. and 5 p.m. in Room 3720, U.S. Department of Commerce, 14th and Constitution Ave., NW., Washington, DC.

Comments: None received. Decision: Approved. We know of no instrument of equivalent scientific value to the foreign instrument described below, for such purposes as this is intended to be used, that was being manufactured in the United States at the time of its order.

Docket Number: 11-023. Applicant: UChicago Argonne, LLC, Lemont, IL 60439. Instrument: Mythen 1K Detector System. Manufacturer: Dectris Ltd., Switzerland. Intended Use: See notice at 76 FR 20953, April 14, 2011. Reasons: The instrument will be used for resonant inelastic x-ray scattering (RIXS) to study the electronic structure of highly correlated systems. This instrument is unique in that it has a small pixel pitch (50 microns); high detection efficiency, single photon counting with high dynamic range; and a small, lightweight and compact design.

Dated: May 10, 2011.
Gregory W. Campbell,
Director, Subsidies Enforcement Office, Import Administration.

[FR Doc. 2011-11984 Filed 5-13-11; 8:45 am]

BILLING CODE 3510-DS-P